DEPARTMENT OF TRANSPORTATION

Federal Railroad Administration

Notice of Application for Approval of Discontinuance or Modification of a Railroad Signal System or Relief From the Requirements of Title 49 Code of Federal Regulations Part 236

Pursuant to Title 49 Code of Federal Regulations (CFR) part 235 and 49 U.S.C. 20502(a), the following railroad has petitioned the Federal Railroad Administration (FRA) seeking approval for the discontinuance or modification of the signal system or relief from the requirements of 49 CFR part 236 as detailed below.

Docket No. FRA-2004-19467

Applicant: Canadian National Railroad, Wisconsin Central Division, Mr. John P. Rath, Manager of Signal Installations, Signal and Communications, 1625 Depot Street, Stevens Point, Wisconsin, 54481.

The Canadian National Railroad (CN) seeks approval for the proposed temporary discontinuance of the interlocked signal system, on the single main track movable bridge, at milepost 182.3 on the Wisconsin Central Division, Manistique Subdivision, at Sault Ste. Marie, Michigan, during the winter for approximately three months. The proposal is to lock down the bridge for rail traffic, and take the signal system out of service on or about February 1 of each year, for approximately three months once the canal is closed to marine traffic. In the spring, prior to restoring the signal system to service, the signal system will be completely tested in accordance with Federal Regulations.

The reason given for the proposed changes is that CN currently does not have approval to temporarily take the signal system out of service during the winter months, when the canal is closed to marine traffic. Historically, it has been the practice to suspend the signal system on this bridge during the winter, ever since the installation of the bridge signal system in 1962. FRA took exception to this practice in 2004, and this request is being made to attain compliance.

Any interested party desiring to protest the granting of an application shall set forth specifically the grounds upon which the protest is made, and include a concise statement of the interest of the party in the proceeding. Additionally, one copy of the protest shall be furnished to the applicant at the address listed above.

All communications concerning this proceeding should be identified by the docket number and must be submitted to the Docket Clerk, DOT Central Docket Management Facility, Room PL-401 (Plaza Level), 400 7th Street, SW., Washington, DC 20590-0001. Communications received within 45 days of the date of this notice will be considered by the FRA before final action is taken. Comments received after that date will be considered as far as practicable. All written communications concerning these proceedings are available for examination during regular business hours (9 a.m.-5 p.m.) at the above facility. All documents in the public docket are also available for inspection and copying on the Internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FRA expects to be able to determine these matters without an oral hearing. However, if a specific request for an oral hearing is accompanied by a showing that the party is unable to adequately present his or her position by written statements, an application may be set for public hearing.

Issued in Washington, DC on November 5, 2004.
Grady C. Cothen, Jr.,
Acting Associate Administrator for Safety Standards.

[FR Doc. 04-25564 Filed 11-17-04; 8:45 am]

BILLING CODE 4910-06-P